ENVIRONMENTAL PROTECTION AGENCY

40 CFR Part 81

Designation of Areas for Air Quality Planning Purposes

CFR Correction

This rule is being published by the Office of the Federal Register to correct an editorial or technical error that appeared in the most recent annual revision of the Code of Federal Regulations.

In title 40 of the Code of Federal Regulations, Part 81, revised as of July 1, 2024, in § 81.305, in the table titled “California-2012 Annual PM2.5 NAAQS [Primary]”, the entry for “San Joaquin Valley, CA” is revised to read as follows:

§ 81.305 California.

* * * * *

California—2012 Annual PM2.5 NAAQS
[Primary]
Designated Area ¹ | Designation: Date ² | Designation: Type | Classification: Date ² | Classification: Type
* * * * * * *
San Joaquin Valley, CA:
Fresno County |  | Nonattainment | 12/27/2021 | Serious.
Kern County (part): That portion of Kern County which lies west and north of a line described as follows: Beginning at the Kern-Los Angeles County boundary and running north and east along the northwest boundary of the Rancho La Libre Land Grant to the point of intersection with the range line common to Range 16 West and Range 17 West, San Bernardino Base and Meridian; north along the range line to the point of intersection with the Rancho El Tejon Land Grant boundary; then southeast, northeast, and northwest along the boundary of the Rancho El Tejon Land Grant to the northwest corner of Section 3, Township 11 North, Range 17 West; then west 1.2 miles; then north to the Rancho El Tejon Land Grant boundary; then northwest along the Rancho El Tejon Land Grant boundary line to the southeast corner of Section 34, Township 32 South, Range 30 East, Mount Diablo Base and Meridian; then north to the northwest corner of Section 35, Township 31 South, Range 30 East; then northeast along the boundary of the Rancho El Tejon Land Grant to the southwest corner of Section 18, Township 31 South, Range 31 East; then east to the southeast corner of Section 13, Township 31 South, Range 31 East; then north along the range line common to Range 31 East and Range 32 East, Mount Diablo Base and Meridian, to the northwest corner of Section 6, Township 29 South, Range 32 East; then east to the southwest corner of Section 31, Township 28 South, Range 32 East; then north along the range line common to Range 31 East and Range 32 East to the northwest corner of Section 6, Township 28 South, Range 32 East, then west to the southeast corner of Section 36, Township 27 South, Range 31 East, then north along the range line common to Range 31 East and Range 32 East to the Kern-Tulare County boundary |  | Nonattainment | 12/27/2021 | Serious.
Kings County |  | Nonattainment | 12/27/2021 | Serious.
Madera County |  | Nonattainment | 12/27/2021 | Serious.
Merced County |  | Nonattainment | 12/27/2021 | Serious.
San Joaquin County |  | Nonattainment | 12/27/2021 | Serious.
Stanislaus County |  | Nonattainment | 12/27/2021 | Serious.
Tulare County |  | Nonattainment | 12/27/2021 | Serious.
* * * * * * *
¹ Includes areas of Indian country located in each county or area, except as otherwise specified.
² This date is April 15, 2015, unless otherwise noted.

* * * * *

[FR Doc. 2025-02677 Filed 2-13-25; 8:45 am]

BILLING CODE 0099-10-D